DEPARTMENT OF COMMERCE

National Oceanic and Atmospheric Administration

Proposed Information Collection; Comment Request; Quantitative Assessment of Spatially-Explicit Social Values Relative to Wind Energy Areas: Outer Continental Shelf Offshore North Carolina

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 7, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Theresa L. Goedeke, 240-533-0383 or theresa.goedeke@noaa.gov.

SUPPLEMENTARY INFORMATION:

I. Abstract

Pursuant to the Outer Continental Shelf Land Act, the National Environmental Policy Act and the Coastal Zone Management Act, this request is for a new data collection to benefit the National Oceanic and Atmospheric Administration (NOAA), Bureau of Ocean Energy Management (BOEM), and policy-makers on the state and local level in North Carolina. BOEM has identified three wind energy areas for potential development on the outer continental shelf of North Carolina. The National Ocean Service (NOS) proposes to collect data on the knowledge, beliefs, social values, and attitudes of North Carolina and South Carolina residents relative to marine and coastal landscapes, alternative energy production options, and offshore wind energy development. Respondents will be sampled from households in eight to ten coastal counties.

The required information will be used to objectively assess the level of support and/or opposition for offshore wind energy development in the region, as well as identify the relevant issues and concerns most salient to residents. The information will be used by BOEM, NOAA, and others to improve agency understanding about the beliefs, social values, attitudes, and concerns of people potentially affected by offshore wind energy development. Such information will be used to ascertain the possible sociocultural outcomes of offshore wind energy development in the region, such as an enhancement or reduction in enjoyment of the coastal landscape/seascape. Additionally, information collected will be used to improve communication efforts targeted to residents, enabling agencies to more effectively and efficiently direct outreach and community inclusion activities.

II. Method of Collection

The data collection will take place over a three to four month period and will be comprised of a questionnaire to be completed by the respondent. The data will be collected via a mail-back survey instrument.

III. Data

OMB Control Number: 0648-XXXX.

Form Number: None.

Type of Review: Regular submission (request for a new information collection).

Affected Public: Individuals or households.

Estimated Number of Respondents: 4,000.

Estimated Time per Response: 20 minutes.

Estimated Total Annual Burden Hours: 1,333.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 30, 2015.
Sarah Brabson,
NOAA PRA Clearance Officer.

[FR Doc. 2015-33152 Filed 1-4-16; 8:45 am]

BILLING CODE 3510-JE-P